DEPARTMENT OF ENERGY

Federal Energy Regulatory Commission

[Docket No. CP04-98-000]

Southern Star Central Gas Pipeline, Inc.; Notice of Application

April 8, 2004.

On March 30, 2004, Southern Star Central Gas Pipeline, Inc. (Southern Star), 3800 Frederica Street, Owensboro, Kentucky 43201, filed an application in the above referenced docket, pursuant to sections 7(b) of the Natural Gas Act (NGA), and part 157 of the Federal Energy Regulatory Commission's (Commission) rules and regulations for an order permitting and approving the abandonment of four Type 26 compressor engines and auxiliary equipment at the Hugoton Compressor Station located in Grant County, Kansas. Southern Star states that the four Cooper Bessemer Type 26 compressor engines are no longer required to provide the service for which they were originally installed due to production decline from the Kansas-Hugoton Gas Field. Southern Star asserts that the horsepower additions at the Hugoton station approved by the Commission in 1968 and 1997 are more than sufficient to move Southern Star's current contractual obligations as well as any anticipated future volumes. Furthermore, the Type 26 compressor engines are now inefficient to operate and maintain and, consequently, are no longer used and useful.

Southern Star states that the reclaim will include the twelve (12) engines previously abandoned and disconnected in 1968 and 1997 that still remain in the same place. The building housing of all of the Type 26 engines will be removed except for one section that will be used for storage. This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

Any questions regarding this application should be directed to David N. Roberts, Manager, Regulatory Affairs, at (270) 853-4654.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see 18 CFR 385.2001(a)(1)(iii) and the instructions on the Commission's Web site under the “e-Filing” link. The Commission strongly encourages electronic filings.

Comment Date: April 29, 2004.

Linda Mitry,
Acting Secretary.

[FR Doc. E4-850 Filed 4-14-04; 8:45 am]

BILLING CODE 6717-01-P